DEPARTMENT OF THE INTERIOR

Bureau of Indian Affairs

25 CFR Part 83

[DR.5A211.IA000413]

RIN 1076-AF18

Procedures for Establishing That an American Indian Group Exists as an Indian Tribe

AGENCY: Bureau of Indian Affairs, Interior.

ACTION: Notice of tribal consultation sessions and public meetings.

SUMMARY: The Office of the Assistant Secretary—Indian Affairs is examining ways to improve the Department's process for acknowledging an Indian tribe, as set forth in regulations. This document announces a comment period, tribal consultation sessions, and public comment sessions on a preliminary discussion draft of potential revisions to improve the Federal acknowledgment process.

DATES: Comments must be received by August 16, 2013. See the SUPPLEMENTARY INFORMATION section of this notice for dates of the tribal consultation sessions and public comment sessions.

ADDRESSES: See the SUPPLEMENTARY INFORMATION section of this notice for locations of the tribal consultation sessions and public hearings and a Web site where the preliminary discussion draft is available. You may submit comments by any of the following methods:

—Federal Rulemaking Portal: http://www.regulations.gov. The rule is listed under the agency name “Bureau of Indian Affairs” and Docket ID “BIA-2013-0007.”

—Email: consultation@bia.gov. Include “1076-AF18” in the subject line of the message.

—Mail or Hand-Delivery: Elizabeth Appel, Office of Regulatory Affairs & Collaborative Action, U.S. Department of the Interior, 1849 C Street NW., MS 4141, Washington, DC 20240. Include “1076-AF18” on the cover of the submission.

FOR FURTHER INFORMATION CONTACT: Elizabeth Appel, Acting Director, Office of Regulatory Affairs & Collaborative Action, (202) 273-4680, elizabeth.appel@bia.gov.

SUPPLEMENTARY INFORMATION: The Department's process for acknowledging an Indian tribe is set forth at 25 CFR part 83, “Procedures for Establishing that an American Indian Group exists as an Indian Tribe” (Part 83 Process). Through adherence to this process, the Department seeks to make consistent, well-grounded decisions when acknowledging a petitioner's government-to-government relationship with the United States. The Part 83 Process is criticized for being, among other things, expensive, burdensome, less than transparent, and inflexible. The preliminary discussion draft of potential revisions to part 83 is intended to generate comments on potential improvements to the process, while maintaining the integrity of the acknowledgment decisions.

This notice announces the availability of a preliminary discussion draft of potential revisions for public review at: http://www.bia.gov/WhoWeAre/AS-IA/Consultation/index.htm. Comments on the discussion draft are due by the date indicated in the DATES section of this notice. We will be hosting several meetings to obtain input on the discussion draft. Morning sessions are tribal consultation sessions reserved only for representatives of federally recognized tribes. Afternoon sessions are open to the public.

The meetings to obtain input will be held on the dates and at the locations shown below. All times are local.

Date | Tribal consultation session | Public meeting | Location | Venue
July 23, 2013 | 9 a.m.-12 p.m | 1 p.m.-4 p.m | Canyonville, Oregon | Seven Feathers Casino Resort, 146 Chief Miwaleta Lane, Canyonville, OR 97417, (541) 839-1111.
July 25, 2013 | 9 a.m.-12 p.m | 1 p.m.-4 p.m | Solvang, California | Hotel Corque, 400 Alisal Road Solvang, CA 93463, (800) 624-5572.
July 29, 2013 | 9 a.m.-12 p.m | 1 p.m.-4 p.m | Petosky, Michigan | Odawa Casino Resort, 1760 Lears Road, Petosky, MI 49770, (877) 442-6464.
July 31, 2013 | 9 a.m.-12 p.m | 1 p.m.-4 p.m | Indian Island, Maine | Sockalexis Arena, 16 Wabanaki Way, Indian Island, ME 04468, (800) 255-1293.
August 6, 2013 | 9 a.m.-12 p.m | 1 p.m.-4 p.m | Marksville, Louisiana | Paragon Casino Resort, 711 Paragon Place, Marksville, LA 71351, (800) 946-1946.

Following this first round of consultation and public input, we will review the comments received and then prepare a proposed rule for publication in the Federal Register. This will open a second round of consultation and the formal comment period to allow for further refining of the regulations prior to publication as a final rule.

Dated: June 21, 2013.
Kevin K. Washburn,
Assistant Secretary—Indian Affairs.

[FR Doc. 2013-15329 Filed 6-26-13; 8:45 am]

BILLING CODE 4310-6W-P